SMALL BUSINESS ADMINISTRATION

Meeting of the Advisory Committee on Veterans Business Affairs

AGENCY: Small Business Administration (SBA).

ACTION: Notice of open Federal advisory committee meeting.

SUMMARY: The SBA is issuing this notice to announce the date, time, and agenda for a meeting of the Advisory Committee on Veterans Business Affairs (ACVBA).

DATES: Thursday, June 2, 2022, from 9:00 a.m. to 12:00 p.m. EST.

ADDRESSES: Due to the coronavirus pandemic, the meeting will be held via Microsoft Teams using a call-in number listed below.

FOR FURTHER INFORMATION CONTACT: The meeting is open to the public; however advance notice of attendance is strongly encouraged. To RSVP and confirm attendance, the general public should email veteransbusiness@sba.gov with subject line—“RSVP for June 2, 2022, ACVBA Public Meeting.” To submit a written comment, individuals should email veteransbusiness@sba.gov with subject line—“Response for June 2, 2022, ACVBA Public Meeting” no later than May 26, 2022, or contact Timothy Green, Deputy Associate Administrator, Office of Veterans Business Development (OVBD) at (202) 205-6773. Comments received in advanced will be addressed as time allows during the public comment period. All other submitted comments will be included in the meeting record. During the live meeting, those who wish to comment will be able to do so during the public comment period.

Participants can join the meeting via computer https://bit.ly/JuneACVBA or phone. Call in (audio only): Dial: 202-765-1264: Phone Conference ID: 147 026 343#.

Special accommodation requests should be directed to OVBD at (202) 205-6773 or veteransbusiness@sba.gov. All applicable documents will be posted on the ACVBA website prior to the meeting: https://www.sba.gov/page/advisory-committee-veterans-business-affairs. For more information on veteran-owned small business programs, please visit www.sba.gov/ovbd.

SUPPLEMENTARY INFORMATION: Pursuant to section 10(a)(2) of the Federal Advisory Committee Act (5 U.S.C., appendix 2), SBA announces the meeting of the Advisory Committee on Veterans Business Affairs. The ACVBA is established pursuant to 15 U.S.C. 657(b) note and serves as an independent source of advice and policy. The purpose of this meeting is to discuss efforts that support veteran-owned small businesses, updates on past and current events, and the ACVBA's objectives for fiscal year 2022.

Dated: May 10, 2022.
Andrienne Johnson,
Committee Management Officer.

[FR Doc. 2022-10448 Filed 5-13-22; 8:45 am]

BILLING CODE P